DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project Title: Interim Evaluation of the Bright Futures for Women's Health and Wellness (BFWHW) Initiative, Emotional Wellness Consumer Tools—NEW.

Purpose: The purpose of this project is to design and implement a three-year interim evaluation to address initial outcomes for the BFWHW emotional wellness tools targeted to consumers. The project is funded by the Health Resources and Services Administration (HRSA), Office of Women's Health (OWH). The evaluation will seek to determine (1) the acceptability of the tools by the target audiences, (2) strategies for ensuring their ongoing use, and (3) the outcomes associated with the use of these tools in three to four selected primary care sites.

The evaluation team will work with HRSA OWH and an Expert Committee to identify the questions of interest for the evaluation plan and methodology. There will be two major components—a descriptive/process component focusing on the design and implementation of the program's intervention and an impact component focusing on the preliminary outcomes of the intervention on the target audiences and their behavioral intentions.

Respondents

Female consumers (adolescents between the ages of 13 and 17, and adults 18 and older) who receive services from four selected HRSA-funded program sites will receive a written survey on site at the time of service.

Distributors of the Consumer Tools (e.g., healthcare providers, program staff, and community stakeholders/organizations) from four selected HRSA-funded program sites will respond to a web-based written survey.

Female consumers (adolescents between the ages of 13 and 17 and adults 18 and older) who receive services from four selected HRSA-funded program sites will be invited to participate in a focus group.

Annual Burden Estimates
Form | Number of respondents | Responses per respondent | Total responses | Hours per response | Total burden hours
Survey of Consumers | 563 | 1 | 563 | 0.25 | 140.75
Survey of the Distributors of the Consumer Tools | 40 | 1 | 40 | 0.25 | 10.0
Consumer Focus Groups | ¹ 64 | 1 | 64 | 1.5 | 96.0
Total | 667 |  | 667 |  | 246.75
¹ 4 sites × 16 focus group participants per site.

Written comments and recommendations concerning the proposed information collection should be sent within 30 days of this notice to the desk officer for HRSA, either by e-mail to OIRA_submission@omb.eop.gov or by fax to 202-395-6974. Please direct all correspondence to the “attention of the desk officer for HRSA.”

Dated: July 9, 2009.
Alexandra Huttinger,
Director, Division of Policy Review and Coordination.

[FR Doc. E9-16958 Filed 7-16-09; 8:45 am]

BILLING CODE 4165-15-P